DEPARTMENT OF THE INTERIOR

National Park Service

[NPS-WASO-NAGPRA-13772; PPWOCRADN0-PCU00RP14.R50000]

Notice of Inventory Completion: Thomas Burke Memorial Washington State Museum, University of Washington, Seattle, WA, and Central Washington University, Ellensburg, WA

AGENCY: National Park Service, Interior.

ACTION: Notice.

SUMMARY: The Thomas Burke Memorial Washington State Museum, University of Washington (Burke Museum), and Central Washington University have completed an inventory of human remains and associated funerary objects, in consultation with the appropriate Indian tribes or Native Hawaiian organizations, and have determined that there is a cultural affiliation between the human remains and associated funerary objects and present-day Indian tribes or Native Hawaiian organizations. Lineal descendants or representatives of any Indian tribe or Native Hawaiian organization not identified in this notice that wish to request transfer of control of these human remains and associated funerary objects should submit a written request to the Burke Museum or Central Washington University. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Burke Museum or Central Washington University at the address in this notice by October 30, 2013

ADDRESSES: Peter Lape, Burke Museum, University of Washington, Box 353010, Seattle, WA 98195, telephone (206) 685-3849, email plape@uw.edu, and Lourdes Henebry-DeLeon, Department of Anthropology, Central Washington University, 400 East University Way, Ellensburg, WA 98926-7544, telephone (509) 963-2671, email deleonl@cwu.edu.

SUPPLEMENTARY INFORMATION: Notice is here given in accordance with the Native American Graves Protection and Repatriation Act (NAGPRA), 25 U.S.C. 3003, of the completion of an inventory of human remains and associated funerary objects under the control of the Burke Museum and Central Washington University. The human remains were removed from Skagit County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains and associated funerary objects was made by the Burke Museum and Central Washington University professional staff in consultation with representatives of the Lummi Tribe of the Lummi Reservation; Samish Indian Nation (previously listed as the Samish Indian Tribe, Washington); Sauk-Suiattle Indian Tribe; Stillaguamish Tribe of Indians of Washington (previously listed as the Stillaguamish Tribe of Washington); Swinomish Indians of the Swinomish Reservation of Washington; Tulalip Tribes of Washington (previously listed as the Tulalip Tribes of the Tulalip Reservation, Washington); and the Upper Skagit Indian Tribe (hereafter referred to as “The Consulted Tribes”).

History and Description of the Remains

In 1937, human remains representing, at minimum, two individuals were removed from the Handel Farm in Skagit County, WA. The human remains were removed by Lt. Roger Ernesti, Arie Handel, and H. Thomas Cain and donated to the Burke Museum in 1937 (Burke Accn. #2983, 2984). In 1974, the Burke Museum staff legally transferred human remains from this site to Central Washington University (CWU BK). No known individuals were identified. No associated funerary objects are present.

Between 1958 and 1963, human remains representing, at minimum, nine individuals were removed from the Tronsdal Site (45-SK-37) in Skagit County, WA. The human remains were removed by University of Washington Field School Expeditions led by Dr. Robert E. Greengo. The human remains were transferred to the Burke Museum in 1965 (Burke Accn. #1965-72) and the remaining archeological collection and associated funerary objects were subsequently transferred in 1983 (Burke Accn. #1983-10). In 1974, the Burke Museum staff legally transferred human remains from this site to Central Washington University (CWU BJ). No known individuals were identified. The eight associated funerary objects include one lot of red ochre, one antler tine, one metal fragment, one bird bone, one mammal bone, one sediment sample and two lots of unmodified shell, mammal, and fish bone fragments.

The Handel farm site is located approximately five miles west of Mt. Vernon and the Tronsdal Site (45-SK-37) is located in the Skagit River delta. Both sites are located in southwest Skagit County. The human remains in this notice have been determined to be Native American based on biological and archeological evidence. The Tronsdal Site is a shell midden site. Material culture observed at the site include projectile points, mauls, adze blades, red ochre, bone bipoints and faunal material is consistent with Native American Coast Salish material culture.

Based on archeological evidence, the human remains are Native American. Linguistically, Native American speakers of the northern dialect of the Lushootseed language claim cultural heritage to the Skagit River delta area. Historical and anthropological sources (Amoss 1978, Mooney 1896, Snyder, Spier 1936, and Swanton 1952) indicate that the Kikiallus, Swinomish, Lower Skagit, and Upper Skagit occupied and had village sites within the Skagit River delta area. Oral history provided by the Stillaguamish and legal testimony during the Indian Claims Commission also indicates that the Stillaguamish utilized the Skagit River delta and Skagit Bay area for hunting, fishing, and clamming (Grady 2012:3). Today, descendants of Kikiallus are members of the Stillaguamish Tribe of Indians of Washington (previously listed as the Stillaguamish Tribe of Washington); Swinomish Indians of the Swinomish Reservation of Washington; and Tulalip Tribes of Washington (previously listed as the Tulalip Tribes of the Tulalip Reservation, Washington). Today, the Lower Skagit are represented by the Swinomish Indians of the Swinomish Reservation of Washington. The Upper Skagit are represented by the Upper Skagit Indian Tribe.

Determinations Made by the Burke Museum and Central Washington University

Officials of the Burke Museum and Central Washington University have determined that:

• Pursuant to 25 U.S.C. 3001(9), the human remains described in this notice represent the physical remains of 11 individuals of Native American ancestry.

• Pursuant to 25 U.S.C. 3001(3)(A), the eight objects described above are reasonably believed to have been placed with or near individual human remains at the time of death or later as part of the death rite or ceremony.

• Pursuant to 25 U.S.C. 3001(2), there is a relationship of shared group identity that can be reasonably traced between the Native American human remains and the Stillaguamish Tribe of Indians of Washington (previously listed as the Stillaguamish Tribe of Washington); Swinomish Indians of the Swinomish Reservation of Washington; Tulalip Tribes of Washington (previously listed as the Tulalip Tribes of the Tulalip Reservation, Washington); and the Upper Skagit Indian Tribe.

Additional Requestors and Disposition

Lineal descendants or representatives of any Indian tribe or Native Hawaiian organization not identified in this notice that wish to request transfer of control of these human remains and associated funerary objects should submit a written request with information in support of the request to Peter Lape, Burke Museum, University of Washington, Box 35010, Seattle, WA 98195, telephone (206) 685-3849, email plape@uw.edu, or Lourdes Henebry-DeLeon, Department of Anthropology, Central Washington University, 400 East University Way, Ellensburg, WA 98926-7544, telephone (509) 963-2671, email deleonl@cwu.edu, by October 30, 2013. After that date, if no additional requestors have come forward, transfer of control of the human remains to the Stillaguamish Tribe of Indians of Washington (previously listed as the Stillaguamish Tribe of Washington); Swinomish Indians of the Swinomish Reservation of Washington; Tulalip Tribes of Washington (previously listed as the Tulalip Tribes of the Tulalip Reservation, Washington); and the Upper Skagit Indian Tribe may proceed.

The Burke Museum is responsible for notifying The Consulted Tribes that this notice has been published.

Dated: August 14, 2013.
David Tarler,
Acting Manager, National NAGPRA Program.

[FR Doc. 2013-23821 Filed 9-27-13; 8:45 am]

BILLING CODE 4312-50-P